DEPARTMENT OF JUSTICE

Antitrust Division

Notice Pursuant to the National Cooperative Research and Production Act of 1933—Sheet Metal and Air Conditioning Contractors' National Association

Notice is hereby given that, on August 18, 2004, pursuant to section 6(a) of the National Cooperative Research and Production Act of 1993, 15 U.S.C. 4301 et seq. (“Act”), the Sheet Metal and Air Conditioning Contractors' National Association (SMACNA) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Sheet Metal and Air Conditioning Contractors' National Association (SMACNA), Chantilly, VA. The nature and scope of SMACNA's standards development activities are to promulgate industry standards to the general public and to initiate, promote and document studies directed toward the solution of present and future problems in the heating, ventilation and air conditioning (HVAC) industry and all facets of the sheet metal industry.

Additional information concerning SMACNA may be obtained from Sue Baker at (703) 803-2980.

Dorothy B. Fountain,
Deputy Director of Operations, Antitrust Division.

[FR Doc. 04-22161 Filed 10-1-04; 8:45 am]

BILLING CODE 4410-11-M